DEPARTMENT OF LABOR

Employment and Training Administration

[TA-W-60,086]

Ford Motor Company, Product Development and Engineering Center, Including On-Site Leased Workers From Roush Management LLC, Rapid Global Business Solutions, Inc., TAC Automotive, MSX, New Dimension Group and Kelly Services, Dearborn, Michigan; Amended Notice of Revised Determination On Reconsideration

In accordance with Section 223 of the Trade Act of 1974 (19 U.S.C. 2273), and Section 246 of the Trade Act of 1974 (26 U.S.C. 2813), as amended, the Department of Labor issued a Notice of Revised Determination on Reconsideration on August 8, 2007. The notice was published in the Federal Register on August 20, 2007 (72 FR 46515-46516). The Revised Determination on Reconsideration was amended on January 30, 2009 and July 8, 2009 to include on-site leased workers from Roush Management LLC, Rapid Global Businesses Solutions, Inc., and TAC Automotive. The notices were published in the Federal Register on February 13, 2009 (74 FR 7269) and July 14, 2009 (74 FR 34043) respectively.

At the request of the State agency, the Department reviewed the Notice of Revised Determination on Reconsideration for workers of the subject firm. The workers are in direct support of production of numerous assembly plants of Ford Motor Company, whose workers were certified eligible to apply for adjustment assistance.

New information shows that leased workers from MSX, New Dimension Group, and Kelly Services were employed on-site at the Dearborn, Michigan location of Ford Motor Company, Product Development Center. The Department has determined that these workers were sufficiently under the control of the subject firm to be considered leased workers.

Based on these findings, the Department is amending this revised determination to include workers leased from MSX, New Dimension Group and Kelly Services working on-site at the Dearborn, Michigan location of the subject firm.

The intent of the Department's certification is to include all workers employed at Ford Motor Company, Product Development and Engineering Center, Dearborn, Michigan who were adversely affected by increased imports.

The amended notice applicable to TA-W-60,086 is hereby issued as follows:

All workers of Ford Motor Company, Product Development and Engineering Center, including on-site leased workers from Roush Management LLC, Rapid Global Business Solutions, Inc., TAC Automotive, MSX, New Dimension Group and Kelly Services, Dearborn, Michigan, who became totally or partially separated from employment on or after September 14, 2005, through August 8, 2009, are eligible to apply for adjustment assistance under Section 223 of the Trade Act of 1974, and are also eligible to apply for alternative trade adjustment assistance under Section 246 of the Trade Act of 1974.

Signed at Washington, DC this 26th day of August 2009.
Linda G. Poole,
Certifying Officer, Division of Trade Adjustment Assistance.

[FR Doc. E9-22761 Filed 9-21-09; 8:45 am]

BILLING CODE 4510-FN-P